OFFICE OF THE UNITED STATES TRADE REPRESENTATIVE

Determination Under the African Growth and Opportunity Act

AGENCY: Office of the United States Trade Representative.

ACTION: Notice; correction.

SUMMARY: The Office of the United States Trade Representative (USTR) published a document in the Federal Register of August 22, 2017, providing notice of its determination that Togo has adopted an effective visa system and related procedures to prevent the unlawful transshipment of textile and apparel articles and the use of counterfeit documents in connection with the shipment of such articles, and has implemented and follows, or is making substantial progress towards implementing and following, the custom procedures required by the African Growth and Opportunity Act (AGOA), and therefore, imports of eligible products from Togo qualify for the textile and apparel benefits provided under the AGOA. This notice corrects an error in that document.

FOR FURTHER INFORMATION CONTACT: Constance Hamilton, Acting Assistant United States Trade Representative for African Affairs, (202) 395-9514 or Constance_Hamilton@ustr.eop.gov.

SUPPLEMENTARY INFORMATION:

Correction

In the Federal Register of August 22, 2017, in FR Doc. 2017-17705, 82 FR 39940-41, on page 39941, in the first column, correct the last paragraph of the notice to read as follows:

Accordingly, pursuant to the authority vested in the USTR in Proclamation 7350, U.S. note 7(a) to subchapter II of chapter 98 of the HTS, is modified by inserting “Togo” in alphabetical sequence in the list of countries, and U.S. notes 1 and 2(d) to subchapter XIX of chapter 98 of the HTS are modified to add in numerical sequence, in the list of designated sub-Saharan African countries, the name “Togo,” in alphabetical sequence. The foregoing modifications to the HTS are effective with respect to articles entered, or withdrawn from warehouse for consumption, on or after the effective date of this notice. Imports claiming preferential tariff treatment under the AGOA for entries of textile and apparel articles should ensure that those entries meet the applicable visa requirements. See 66 FR 7837 (January 25, 2001).

Constance Hamilton,
Acting Assistant United States Trade Representative for African Affairs, Office of the United States Trade Representative.

[FR Doc. 2017-19253 Filed 9-11-17; 8:45 am]

BILLING CODE 3290-F7-P